NUCLEAR REGULATORY COMMISSION

Sunshine Act; Meeting Notice

Agency Holding the Meetings: Nuclear Regulatory Commission [NRC-2010-0002].

Date: Week of March 8, 2010

Place: Commissioners' Conference Room, 11555 Rockville Pike, Rockville, Maryland

Status: Public and Closed

Additional Items To Be Considered:

Week of March 8, 2010

Wednesday, March 10, 2010

2 p.m. Affirmation Session (Public Meeting) (Tentative)

a. Progress Energy Carolinas, Inc. (Shearon Harris Nuclear Power Plant, Units 2 and 3), Notice of Appeal, Request for Oral Argument and Brief Supporting Notice of Appeal by NC WARN (July 22, 2009) (Tentative)

b. U.S. Department of Energy (High Level Waste Repository) Appeal of William D. Peterson (Tentative)

* * * * *

The NRC Commission Meeting Schedule can be found on the Internet at: http://www.nrc.gov/about-nrc/policy-making/schedule.html.

* * * * *

The NRC provides reasonable accommodation to individuals with disabilities where appropriate. If you need a reasonable accommodation to participate in these public meetings, or need this meeting notice or the transcript or other information from the public meetings in another format (e.g. braille, large print), please notify Angela Bolduc, Chief, Employee/Labor Relations and Work Life Branch, at 301-492-2230, TDD: 301-415-2100, or by e-mail at angela.bolduc@nrc.gov. Determinations on requests for reasonable accommodation will be made on a case-by-case basis.

* * * * *

This notice is distributed electronically to subscribers. If you no longer wish to receive it, or would like to be added to the distribution, please contact the Office of the Secretary, Washington, DC 20555 (301-415-1969), or send an email to darlene.wright@nrc.gov.

Dated: March 3, 2010.
Rochelle C. Bavol,
Office of the Secretary.

[FR Doc. 2010-4982 Filed 3-5-10; 1:30 pm]

BILLING CODE 7590-01-P